SOCIAL SECURITY ADMINISTRATION

Privacy Act of 1974; as Amended; New System of Records and New Routine Use Disclosures

AGENCY: Social Security Administration (SSA).

ACTION: Proposed new system of records and routine uses.

SUMMARY: In accordance with the Privacy Act (5 U.S.C. 552a(e)(4) and (e)(11)), we are issuing public notice of our intent to establish a new system of records entitled Attorney and Eligible Direct Pay Non-Attorney (EDPNA) 1099-MISC File, hereinafter referred to as the Attorney/EDPNA 1099-MISC File system of records, and routine uses applicable to the system of records. We are also issuing notice that we may disclose personally identifiable information from the Attorney/EDPNA 1099-MISC File to consumer reporting agencies in accordance with 5 U.S.C. 552a(b)(12) and 31 U.S.C. 3711(e). Further, we give notice that we will disclose the taxpayer identification numbers (TIN)/Social Security numbers (SSN) and other information maintained in this file to employers for the purpose of reporting and collecting delinquent debts that may arise out of representational fee payments made to representatives. See 31 U.S.C. 7701(c)(3). We invite public comment on this proposal.

DATES: We filed a report of the proposed Attorney/EDPNA 1099-MISC File system of records and the applicable routine uses with the Chairman of the Senate Committee on Homeland Security and Governmental Affairs, the Chairman of the House Committee on Government Reform, and the Director, Office of Information and Regulatory Affairs, Office of Management and Budget (OMB) on July 18, 2006. The proposed Attorney/EDPNA 1099-MISC File system of records and the proposed routine uses will become effective on August 26, 2006, unless we receive comments warranting that they not be effective.

ADDRESSES: Interested individuals may comment on this publication by writing to the Deputy Executive Director, Office of Public Disclosure, Office of the General Counsel, Social Security Administration, 3-A-6 Operations Building, 6401 Security Boulevard, Baltimore, Maryland 21235-6401. All comments received will be available for public inspection at the above address.

FOR FURTHER INFORMATION CONTACT: Ms. Christine W. Johnson, Lead Social Insurance Specialist, Strategic Issues Team, Office of Public Disclosure, Office of the General Counsel, Social Security Administration, Room 3-A-6 Operations Building, 6401 Security Boulevard, Baltimore, Maryland 21235-6401, telephone: (410) 965-8563, e-mail: chris.w.johnson@ssa.gov.

SUPPLEMENTARY INFORMATION:

I. Background and Purpose of the Proposed New Attorney/EDPNA 1099-MISC File System of Records

A. General Background

Under sections 206(a) and 1631(d)(2) of the Social Security Act and sections 302 and 303 of the Social Security Protection Act (SSPA) of 2004 (Pub. L. 108-203), SSA has the authority and responsibility to determine the maximum fees that claimants' representatives may charge and collect from claimants they represent before SSA, and to directly pay those fees out of claimants' past-due benefits, to attorney and EDPNA representatives. SSA is also responsible to directly pay fees awarded to an attorney by a Federal court under sections 206(b) and 1631(d)(2) of the Act. Changes in the Internal Revenue Service Federal Income Tax Regulations (26 CFR part 1), promulgated under sections 6041 and 6045 of the Internal Revenue Code (IRC) require SSA, in the course of its business, to issue 1099-MISC information returns for aggregate payments of $600.00 or more in a calendar year. The returns must be filed whether or not the services were performed for SSA. Therefore, representatives who meet the requirements to receive representational fee payments and do not waive payment from SSA could meet the reporting requirement of the IRC. Further, when the attorney or EDPNA representative works for an employer (e.g., law firm, partnership or other business entity) and we have the employer's name, address and EIN information in our file a 1099-MISC information return will also be issued to the employer.

Further, the Debt Collection Improvement Act of 1996, 31 U.S.C. 7701, requires all persons doing business with a federal agency to provide TINs/SSNs. A person is considered to be “doing business” with an agency if the agency assesses a fee on the person. Under sections 206(d) and 1631(d)(2)(C) of the Social Security Act (42 U.S.C. 406(d) and 1383(d)(2)(C)), SSA assesses a fee for determining and paying the fee each time it directly pays a representational fee to a claimant's representative. Moreover, the representational fees that SSA directly pays to representatives are funds withheld from benefit payments that are redirected to the representatives from claimants. Therefore, SSA is “doing business” with all representatives that it pays. To this end, pursuant to the Debt Collection Improvement Act, SSA will also use the TINs/SSNs maintained in the Attorney/EDPNA 1099-MISC File for the purpose of reporting and collecting any delinquent debts that may arise out of the representational fee payments that SSA makes to representatives.

Thus, the proposed Attorney/EDPNA 1099-MISC File will facilitate the efficient collection and maintenance of data needed for the verification and issuance of 1099-MISC information returns for reporting purposes, as well as the reporting and collection of delinquent debts that may arise from payments to representatives. For example, the file will maintain the names of representatives eligible to receive direct fee payments, TINs/SSNs, tax mailing address, notice/payment address, each individual payment amount, and sanction history as appropriate. The file will also retain employer identification data and any other information required by the Commissioner for verification and issuance of 1099-MISC information returns. The proposed Attorney/EDPNA 1099-MISC File not only responds to the requirements of the IRC, it also facilitates accuracy in SSA recordkeeping and SSA efforts to collect debts arising out of the direct payment of representational fees.

B. Collection and Maintenance of Data in the Attorney/EDPNA 1099-MISC File System of Records

The Attorney/EDPNA 1099-MISC File will maintain identifying information on all representatives who receive direct fee payments for services performed for claimants before SSA and the Federal courts, and on their employers. See the “Categories of records” section of the notice below for a full description of the data that will be maintained in the system of records.

II. Proposed Routine Use Disclosures of Data Maintained in the Proposed Attorney/EDPNA 1099-MISC File System of Records

A. Proposed Routine Use Disclosures

We are proposing to establish the following routine use disclosures of information that will be maintained in the proposed new Attorney/EDPNA 1099-MISC File system of records:

1. To the Office of the President for the Purpose of Responding to an Individual Pursuant to an Inquiry Received From That Individual or From a Third Party on His or Her Behalf

We will disclose information under this routine use only in situations in which an individual may contact the Office of the President, seeking that Office's assistance in a matter relating to the Attorney/EDPNA 1099-MISC File. Information will be disclosed when the Office of the President makes an inquiry and indicates that it is acting on behalf of the individual whose record is requested.

2. To a Congressional Office in Response to An Inquiry From That Office Made at the Request of the Subject of a Record

We will disclose information under this routine use only in situations in which the individual may ask his or her congressional representative to intercede in a matter relating to the Attorney/EDPNA 1099-MISC File. Information will be disclosed when the congressional representative makes an inquiry and indicates that he or she is acting on behalf of the individual whose record is requested.

3. To the Internal Revenue Service and to State and Local Government Tax Agencies in Response to Inquiries Regarding Receipt of Fees Paid in Any Calendar Year

We will disclose information under this routine use to the Internal Revenue Service (IRS) and to State and local government tax agencies, as necessary, regarding fees paid directly by SSA beginning calendar year 2007 and subsequent taxable years, as well as any other relevant and necessary information regarding fees paid to the qualified claimant representatives as appropriate.

4. To the Internal Revenue Service, Department of the Treasury, for the Purpose of Auditing Social Security Administration's Compliance With the Safeguard Provisions of the Internal Revenue Code of 1986, as Amended

This proposed routine use would allow the IRS to audit SSA's maintenance of earnings and wage information in the Attorney/EDPNA 1099-/MISC File to ensure that SSA complies with the safeguard requirements of the IRC.

5. To the Department of Justice (DOJ), a Court, or Other Tribunal, or Other Party Before Such Tribunal When

(a) Social Security Administration (SSA), or any component thereof; or

(b) any SSA employee in his/her official capacity; or

(c) any SSA employee in his/her individual capacity where DOJ (or SSA where it is authorized to do so) has agreed to represent the employee; or

(d) the United States, or any agency thereof, where SSA determines that the litigation is likely to affect the operations of SSA or any of its components is a party to litigation or has an interest in such litigation, and SSA determines that the use of such records by DOJ, a court, or other tribunal is relevant and necessary to the litigation, provided, however, that in each case, SSA determines that such disclosure is compatible with the purpose for which the records were collected.

We will disclose information under this routine use only as necessary to enable DOJ to effectively represent or defend SSA, its components or employees in litigation involving the proposed system of records or when the United States is a party to litigation and SSA has an interest in the litigation.

6. To the Department of Justice for

(a) investigating and prosecuting violations of the Social Security Act to which criminal penalties attach;

(b) representing the Commissioner; or

(c) investigating issues of fraud or violation of civil rights by agency officers or employees.

We will disclose information under this routine use only as necessary to enable DOJ to represent SSA in matters concerning violations of the Social Security Act, to represent the Commissioner of Social Security, or to investigate issues of fraud or violations of civil rights by SSA officers or employees.

7. To Contractors and Other Federal Agencies, as Necessary, for the Purpose of Assisting Social Security Administration (SSA) in the Efficient Administration of Its Programs. We Will Disclose Information Under This Routine Use Only in Situations in Which SSA May Enter a Contractual or Similar Agreement With a Third Party To Assist in Accomplishing an Agency Function Relating to This System of Records

SSA occasionally contracts out certain of its functions when this would contribute to effective and efficient operations. For example, this may include contractors, as authorized by 31 U.S.C. 3718, or Federal agencies that either operate debt collection centers or that will assist SSA in collecting debts through Federal salary, administrative, and tax refund offset as provided by 5 U.S.C. 3716 and 3720A. The debts collected will only include those owed by claimants' representatives arising out of excess or erroneous representational fee payments made by SSA. SSA must be able to give a contractor or Federal agency whatever information SSA can legally provide in order for the contractor or Federal agency to fulfill its duties. In situations in which we use contractors, safeguards are provided in the contract prohibiting the contractor from using or disclosing the information for any purpose other than that described in the contract.

8. To Student Volunteers, Individuals Working Under a Personal Services Contract, and Other Workers Who Technically Do Not Have the Status of Federal Employees, When They Are Performing Work for the Social Security Administration (SSA), as Authorized by Law, and They Need Access to Personally Identifiable Information in SSA Records in Order To Perform Their Assigned Duties

Under certain Federal statutes, SSA is authorized to use the service of volunteers and participants in certain educational, training, employment and community service programs. An example of such statutes and programs includes: 5 U.S.C. 2753 regarding the College Work-Study Program. We will disclose information under this routine use only when SSA uses the services of these individuals, and they need access to information in this system to perform their assigned agency duties.

9. To Federal, State and Local Law Enforcement Agencies and Private Security Contractors as Appropriate, Information Necessary

• To enable them to protect the safety of Social Security Administration (SSA) employees and customers, the security of the SSA workplace and the operation of SSA facilities; or

• To assist investigations or prosecutions with respect to activities that affect such safety and security or activities that disrupts the operation of SSA facilities.

We will disclose information under this routine use to law enforcement agencies and private security contractors when information is needed to respond to, investigate, or prevent activities that jeopardize the security and safety of SSA customers, employees or workplaces or that otherwise disrupt the operation of SSA facilities. Information would also be disclosed to assist in the prosecution of persons charged with violating Federal or local law in connection with such activities.

10. To the General Services Administration and the National Archives and Records Administration (NARA) Under 44 U.S.C. 2904 and § 2906, as Amended by the NARA Act of 1984, Information Which Is Not Restricted From Disclosure by Federal Law for the Use of Those Agencies in Conducting Records Management Studies

The Administrator of the General Services Administration (GSA) and the Archivist of NARA are charged by 44 U.S.C. 2904 with promulgating standards, procedures and guidelines regarding record management and conducting records management studies. 44 U.S.C. 2906, as amended, provides that GSA and NARA are to have access to federal agencies' records and that agencies are to cooperate with GSA and NARA. In carrying out these responsibilities, it may be necessary for GSA and NARA to have access to this proposed system of records. In such instances, the routine use will facilitate disclosure.

11. To Employers To Assist the Social Security Administration (SSA) in the Collection of Debts Owed by Claimants' Representatives Who Received an Excess or Erroneous Representational Fee Payment and Owe a Delinquent Debt to SSA. Disclosure Under This Routine Use Is Authorized Under the Debt Collection Improvement Act of 1966 (Pub. L. 104-134) and Implemented Through Administrative Wage Garnishment Provisions of This Act. See 31 U.S.C. 3720D

SSA is obligated to attempt to collect debts owed to it. Under 31 U.S.C. 3720D, implemented by SSA regulations (see 20 CFR Part 22, Subpart E), SSA may issue administrative wage garnishment orders to the employers of persons who owe debts to SSA. SSA will only provide employers with the minimal information necessary to allow employers to comply with our orders.

12. To Employers of Claimants' Representatives (e.g., Law Firms, Partnerships or Other Business Entities) in Accordance With the Requirements of Sections 6041 and 6045(f) of the Internal Revenue Code as Implemented by the IRS Regulations Found at 26 CFR 1.6041-1, and as Necessary To Carry Out the Attorney/EDPNA Fee Reporting Program

We will disclose information under this routine use to employers of claimants' representatives in accordance with the requirements of sections 6041 and 6045(f) of the Internal Revenue Code as implemented by IRS regulations found at 26 CFR 1.6041-1, with respect to issuance of 1099-MISC information return forms. SSA will only provide employers with a copy of the 1099-MISC issued to the employee.

B. Compatibility of Proposed Routine Uses

The Privacy Act (5 U.S.C. 552a(b)(3)) and our disclosure regulations (20 CFR Part 401) permit us to disclose information under a published routine use for a purpose that is compatible with the purpose for which we collected the information. SSA's regulations at 20 CFR 401.150(c) permit us to disclose information under a routine use where necessary to carry out SSA programs. SSA's regulations at 20 CFR 401.120 provide that we will disclose information when a law specifically requires the disclosure. The proposed routine uses numbered 1 through 9, 11 and 12 above, will ensure efficient performance of our functions relating to the purpose and administration of the proposed Attorney/EDPNA 1099-MISC File; the disclosures that would be made under routine use number 10 are required by Federal law. The proposed routine uses are appropriate and meet the relevant statutory and regulatory criteria.

III. Disclosure to Consumer Reporting Agencies

The Privacy Act of 1974, as amended (5 U.S.C. 552a(b)(12)), permits Federal agencies to disclose certain information to consumer reporting agencies in accordance with 31 U.S.C. 3711(e) without the consent of the individuals to whom the information pertains. The purpose of this disclosure is to provide an incentive for individuals to pay any outstanding debts they owe to the Federal government by including information about these debts in the records that are identified in the records relating to those persons maintained by consumer reporting agencies. This is a practice commonly used by the private sector. The information disclosed will be limited to that needed to establish the identity of the individual debtor, the amount, status, and history of the debt; and the agency or program under which the debt arose.

We have added the following statement at the end of the routine uses section of the proposed system of records:

Disclosure pursuant to 5 U.S.C. § 552a(b)(12) may be made to consumer reporting agencies as defined in the Fair Credit Reporting Act (15 U.S.C. § 1681a(f)) or the Federal Claims Collection Act of 1966 (31 U.S.C. § 3701, et seq.), as amended. The disclosure will be made in accordance with 31 U.S.C. § 3711(e). The purpose of this disclosure is to aid in the collection of outstanding debts owed to the Federal government, typically, to provide an incentive for debtors to repay delinquent Federal government debts by making these debts part of their credit records. The information to be disclosed is limited to the individual's name, address, SSN, and other information necessary to establish the individual's identity, the amount, status, and history of the debt; and the agency or program under which the debt arose.

IV. Records Storage Medium and Safeguards for the Proposed Attorney/EDPNA 1099-MISC File System of Records

The Attorney/EDPNA 1099-MISC File is a repository for records in paper and electronic form. Only authorized SSA personnel who have a need for the information in the performance of their official duties will be permitted access to the information. We will safeguard the security of the information by requiring the use of access codes to enter the computer systems that will maintain the data, and will store computerized records in secured areas that are accessible only to employees who require the information to perform their official duties. Safeguards include a lock/unlock password system, exclusive use of leased telephone lines, a terminal-oriented transaction matrix, and an audit trail. Any manually maintained records will be kept in locked cabinets or in otherwise secure areas. Furthermore, SSA employees having access to SSA databases maintaining personal information must sign a sanction document annually, acknowledging their accountability for making unauthorized access to or disclosure of such information.

Contractor personnel having access to data in the proposed Attorney/EDPNA 1099-MISC File will be required to adhere to SSA rules concerning safeguards, access and use of the data.

SSA personnel having access to the data on this system will be informed of the criminal penalties provided in the Privacy Act and other statutes for unauthorized access to or disclosure of information maintained in this system. See 5 U.S.C. 552a(i)(1).

VI. Effect of the Proposed Attorney/EDPNA 1099-MISC File System of Records on the Rights of Individuals

The proposed Attorney/EDPNA 1099-MISC File system of records will maintain only that information that is necessary for the efficient and effective:

• Verification and issuance of 1099-MISC information returns to representatives who receive direct fee payments;

• Issuance of 1099-MISC information returns to employers of claimants' representatives;

• Reporting required by the IRC; and

• Collection or reporting of delinquent debts that might arise from payments made to representatives.

Security measures will be employed that protect access to and preclude unauthorized disclosure of records in the proposed system of records. Therefore, we do not anticipate that the proposed system of records will have any unwarranted adverse effect on the rights of individuals.

Dated: July 18, 2006.
Jo Anne B. Barnhart,
Commissioner.

Social Security Administration

Notice of System of Records Required by the Privacy Act of 1974

60-0325

System name:

Attorney/EDPNA 1099-MISC File, Social Security Administration (SSA), Deputy Commissioner for Budget, Finance and Management

Security classification:

None.

System location:

The Attorney/EDPNA 1099-MISC File is established when claimants' representatives who are eligible to receive direct fee payments file a request for direct payment through the internet, by mail, or in person and the information is maintained in the National Computer Center at SSA Headquarters. The computerized records and database are maintained at the Social Security Administration, Office of Systems, 6401 Security Boulevard, Baltimore, Maryland 21235.

Categories of individuals covered by the system:

This system covers only claimants' representatives who are eligible to receive direct payment of representational fees for representing SSA claimants at the administrative or court level in SSA-related matters.

Categories of records in the system:

The Attorney/EDPNA 1099-MISC File will maintain the following information: Names of representatives eligible to receive direct fee payments, taxpayer identification numbers (TIN)/Social Security numbers (SSN), tax mailing address, notice/payment address, type of representative (e.g., Attorney or EDPNA), tax identification number, court-standing information, sanction-related information (e.g., “Disqualified or Suspended,” and start/stop date of sanction), signature date on the Appointment of Representative (Form SSA-1696-U4) or equivalent written statement, termination of service date, business affiliation information (e.g., sole proprietor or single-member Limited Liability Company/Limited Liability Partnership; or partner or salaried employee), telephone/fax numbers, name and address of entity (e.g., Firm, Other), EIN of entity, business affiliations, and direct deposit information. The system will also contain relevant claimants' SSNs.

Authority for maintenance of the system:

Sections 205, 206, 1631(d)(1) and 1631(d)(2) of the Act, as amended, and Sections 6041 and 6045 of the Internal Revenue Code (26 CFR Part 1).

Purpose(s):

The Attorney/EDPNA 1099-MISC File will ensure appropriate and efficient collection, maintenance and issuance of 1099-MISC information returns to representatives eligible to receive direct fee payments for services rendered to claimants in proceedings before SSA or a Federal court. The file will also ensure issuance of 1099-MISC information returns to employers of claimants' representatives when information about the employer is known. The information is used throughout SSA for the purpose of verifying, documenting, and organizing the information for reporting purposes. The file will also be used in determining whether representatives owe SSA a debt based on an excess or erroneous fee payment and to assist SSA in its representative sanction and debt collection process.

The Attorney/EDPNA 1099-MISC File may also be used for quality review, evaluation, and measurement studies, and other statistical and research purposes. Extracts may be maintained as interviewing tools, activity logs, records of claims clearance, and records of type or nature of actions taken.

Routine uses of records maintained in the system, including categories of users and the purposes of such uses:

Disclosures may be made for routine uses as indicated below. However, any information defined as “return or return information” under 26 U.S.C. 6103 of the Internal Revenue Code (IRC) will not be disclosed unless authorized by the IRC, the Internal Revenue Service (IRS), or IRS regulations:

1. To the Office of the President for the purpose of responding to an individual pursuant to an inquiry received from that individual or from a third party on his/her behalf.

2. To a congressional office in response to an inquiry from that office made at the request of the subject of the record.

3. To the Internal Revenue Service and to State and local government tax agencies in response to inquiries regarding receipt of fees paid directly by SSA in calendar year 2007 and continuing.

4. To the Internal Revenue Service, Department of the Treasury, for the purpose of auditing Social Security Administration's compliance with the safeguard provisions of the Internal Revenue Code of 1986, as amended.

5. To the Department of Justice, a court, or other tribunal, or other party before such tribunal when:

(a) Social Security Administration, or any component thereof;

(b) Any SSA employee in his/her official capacity;

(c) Any SSA employee in his/her individual capacity where DOJ (or SSA where it is authorized to do so) has agreed to represent the employee; or

(d) The United States, or any agency thereof, where SSA determines that the litigation is likely to affect the operations of SSA or any of its components

is a party to litigation or has an interest in such litigation, and SSA determines that the use of such records by DOJ, a court, or other tribunal is relevant and necessary to the litigation, provided, however, that in each case, SSA determines that such disclosure is compatible with the purpose for which the records were collected.

6. To Department of Justice for:

(a) Investigating and prosecuting violations of the Social Security Act to which criminal penalties attach;

(b) Representing the Commissioner; or

(c) Investigating issues of fraud or violation of civil rights by agency officers or employees.

7. To contractors and other Federal agencies, as necessary, for the purpose of assisting SSA in the efficient administration of its programs. We will disclose information under this routine use only in situations in which SSA may enter a contractual or similar agreement with a third party to assist in accomplishing an agency function relating to this system of records.

8. To student volunteers, individuals working under a personal services contract, and other workers who technically do not have the status of Federal employees, when they are performing work for the Social Security Administration (SSA), as authorized by law, and they need access to personally identifiable information in SSA records in order to perform their assigned duties.

9. To Federal, State and local law enforcement agencies and private security contractors as appropriate, information necessary:

• To enable them to protect the safety of Social Security Administration employees and customers, the security of the SSA workplace and the operation of SSA facilities; or

• To assist in investigations or prosecutions with respect to activities that affect such safety and security or activities that disrupts the operation of SSA facilities.

10. To the General Services Administration and the National Archives and Records Administration under 44 U.S.C. 2904 and 2906, as amended by the NARA Act of 1984, information which is not restricted from disclosure by Federal law for use by those agencies in conducting records management studies.

11. To employers to assist the Social Security Administration (SSA) in the collection of debts owed by claimants' representatives who received an excess or erroneous representational fee payment and owe a delinquent debt to SSA. Disclosure under this routine use is authorized under the Debt Collection Improvement Act of 1966 (Pub. L. 104-134) and implemented through administrative wage garnishment provisions of this Act (31 U.S.C. 3720D).

12. To employers of claimants' representatives (e.g., firms, partnerships or other business entities) in accordance with the requirements of sections 6041 and 6045(f) of the Internal Revenue Code as implemented by IRS regulations found at 26 CFR 1.6041-1, and as necessary to carry out the Attorney/EDPNA Fee reporting program.

Disclosure to Consumer Reporting Agencies:

Disclosure pursuant to 5 U.S.C. 552a(b)(12) may be made to consumer reporting agencies as defined in the Fair Credit Reporting Act (15 U.S.C. 1681a(f)) or the Federal Claims Collection Act of 1966 (31 U.S.C. 3701, et seq.), as amended. The disclosure will be made in accordance with 31 U.S.C. 3711(e). The purpose of this disclosure is to aid in the collection of outstanding debts owed to the Federal government, typically, to provide an incentive for debtors to repay those delinquent debts by making the debts part of their credit records. The information to be disclosed is limited to the individual's name, address, SSN, and other information necessary to establish the individual's identity; the amount, status, and history of the debt; and the agency or program under which the debt arose.

Extended Use of Taxpayer Identification Numbers/Social Security Numbers:

Under the Debt Collection Improvement Act of 1996, 31 U.S.C. 7701, each Federal agency must require all persons doing business with that Federal agency to provide their TINs/SSNs. A person is considered to be “doing business” with an agency if the agency assesses a fee on the person. Under sections 206(d) and 1631(d)(2)(C) of the Social Security Act (42 U.S.C. 406(d) and 1383(d)(2)(C)), SSA assesses a fee each time it directly pays a representational fee to a claimant's representative. Further, the representational fees that SSA directly pays to representatives are funds withheld from benefit payments that are redirected to the representatives from claimants. Therefore, SSA is “doing business” with all representatives to whom it pays fees. Pursuant to the Debt Collection Improvement Act of 1996, 31 U.S.C. 7701(c)(3), SSA gives notice that it intends to use the TINs/SSNs for the purpose of collecting or reporting any delinquent debts that arise out of the representational fee payments that SSA makes to representatives. SSA will only disclose TINs/SSNs when necessary to facilitate debt collection or reporting as indicated by Federal statute or regulation.

Policies and practices for storing, retrieving, accessing, retaining and disposing of records in the system:

Storage:

Records are maintained in both electronic and paper form.

Retrievability:

Records are retrieved by SSN or alphabetically by the representative's name.

Safeguards:

Attorney/EDPNA 1099-MISC files are protected through limited access to SSA records. Access to the records is limited to those employees who require such access in the performance of their official duties. All employees are instructed about SSA confidentiality rules as part of their initial orientation training.

Safeguards for automated records have been established in accordance with the Systems Security Handbook. For computerized records electronically transmitted between SSA's central office and field office locations (including organizations administering SSA programs under contractual agreements), safeguards include a lock/unlock password system, exclusive use of leased telephone lines, a terminal-oriented transaction matrix, and an audit trail. Access http://www.ssa.gov/foia/bluebook/app_g.htm for additional information regarding the safeguards SSA employs to protect its paper and automated records.

Retention and disposal:

The information contained in the Attorney and Eligible Direct Pay Non-Attorney (EDPNA) 1099-MISC File will be retained for 3 years. An SF-115, Request for Records Disposition Authority must be written and presented to the National Archives and Records Administration for approval since there are no existing schedules that cover these records. None of the information contained in this database may be destroyed/deleted prior to the approval of the disposition schedule. All records must be definitively destroyed in accordance with their appropriate retention schedules.

System manager(s) and address:

Deputy Commissioner for Budget, Finance and Management, 6401 Security Boulevard, Baltimore, Maryland 21235.

Notification procedure(s):

An individual can determine if this system contains a record about him/her by writing to the system manager(s) at the above address and providing his/her name, SSN or other information that may be in the system of records that will identify him/her. An individual requesting notification of records in person should provide the same information, as well as an identity document, preferably with a photograph, such as a driver's license or some other means of identification. If an individual does not have any identification document sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth, and place of birth, along with one other piece of information such as mother's maiden name) and ask for his/her consent to providing information to the requesting individual.

If a request for notification is submitted by mail, the representative must include a notarized statement to SSA to verify his/her identity or must certify in the request that he/she is the person claimed to be and that he/she understands that the knowing and willful request for, or acquisition of, a record pertaining to another individual under false pretenses is a criminal offense. These procedures are in accordance with SSA regulations (20 CFR 401.40(c)).

Record access procedure(s):

Same as Notification procedures. Requesters also should reasonably specify the record contents they are seeking. These procedures are in accordance with SSA regulations (20 CFR 401.40(c)).

Contesting record procedure(s):

Same as Notification procedures. Requesters also should reasonably identify the record, specify the information they are contesting, and state the corrective action sought and the reasons for the correction with supporting justification showing how the record is untimely, incomplete, inaccurate, or irrelevant. These procedures are in accordance with SSA regulations (20 CFR 401.65(a)).

Record source categories:

Information in this system of records is obtained from claimant representatives or SSA records (e.g., the Master Beneficiary Record, Supplemental Security Income Record, Numident Record).

Systems exempted from certain provisions of the Privacy Act:

None.

[FR Doc. E6-11784 Filed 7-24-06; 8:45 am]

BILLING CODE 4191-02-P